Executive Order 13812 of September 29, 2017

Revocation of Executive Order Creating Labor-Management Forums

By the authority vested in me as President by the Constitution and the laws of the United States of America, it is hereby ordered as follows:

Section 1. Policy. The United States Government should spend tax dollars responsibly, efficiently, and in the public interest. The National Council on Federal Labor-Management Relations (Council) and related agency-level labor-management forums have consumed considerable managerial time and taxpayer resources, but they have not fulfilled their goal of promoting collaboration in the Federal workforce. Public expenditures on the Council and related forums have produced few benefits to the public, and they should, therefore, be discontinued.

Sec. 2. Revocations. (a) Executive Order 13522 of December 9, 2009 (Creating Labor-Management Forums to Improve Delivery of Government Services), as extended by Executive Order 13708 of September 30, 2015 (Continuance or Reestablishment of Certain Federal Advisory Committees), which established the Council and implemented labor-management forums throughout the executive branch, is hereby revoked.

(b) The Director of the Office of Personnel Management and heads of executive departments and agencies shall, consistent with law, promptly move to rescind any orders, rules, regulations, guidelines, programs, or policies implementing or enforcing Executive Order 13522.

Sec. 3. General Provisions. (a) Nothing in this order shall abrogate any collective bargaining agreements in effect on the date of this order.

(b) Nothing in this order shall be construed to impair or otherwise affect:

(i) the authority granted by law to an executive department or agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

September 29, 2017.

[FR Doc. 2017-21559

Filed 10-3-17; 11:15 am]

Billing code 3295-F7-P